DEPARTMENT OF TRANSPORTATION

Federal Aviation Administration

14 CFR Part 39

[Docket No. FAA-2016-9380; Directorate Identifier 2016-NE-21-AD

RIN 2120-AA64

Airworthiness Directives; CFE Company Turbofan Engines

AGENCY: Federal Aviation Administration (FAA), DOT.

ACTION: Proposed rule; withdrawal.

SUMMARY: The FAA is withdrawing a notice of proposed rulemaking (NPRM). The NPRM proposed a new airworthiness directive (AD) for certain CFE Company (CFE) turbofan engines that published in the Federal Register on January 5, 2017. The proposed action that published in the Federal Register on January 5, 2017 was a duplicate of an NPRM, Directorate Identifier 2016-NE-21-AD, that published in the Federal Register on January 3, 2017. Accordingly, we withdraw the proposed rule that published in the Federal Register on January 5, 2017.

DATES: As of March 22, 2017, the proposed rule published January 5, 2017 (82 FR 52) is withdrawn.

FOR FURTHER INFORMATION CONTACT: Martin Adler, Aerospace Engineer, Engine Certification Office, FAA, 1200 District Avenue, Burlington, MA 01803; phone: 781-238-7157; fax: 781-238-7199; email: martin.adler@faa.gov.

SUPPLEMENTARY INFORMATION: The FAA proposed to amend 14 CFR part 39 with a proposed AD (82 FR 1258, January 5, 2017). Since we published the NPRM, Directorate Identifier 2016-NE-21-AD, in the Federal Register on January 5, 2017 (82 FR 1258), we discovered that it was a duplicate of an NPRM, Directorate Identifier 2016-NE-21-AD, that published in the Federal Register on January 3, 2017 (82 FR 52). This duplication created overlapping comment periods with different comment period closing dates, which is confusing to commenters.

Withdrawal of the NPRM (82 FR 1258, January 5, 2017) constitutes only such action, and does not preclude the agency from issuing another notice in the future, nor does it commit the agency to any course of action in the future.

Since this action only withdraws a notice of proposed rulemaking, it is neither a proposed nor a final rule. Therefore, Executive Order 12866, the Regulatory Flexibility Act, or DOT Regulatory Policies and Procedures (44 FR 11034, February 26, 1979) do not cover this withdrawal.

List of Subjects in 14 CFR Part 39

Air transportation, Aircraft, Aviation safety, Incorporation by reference, Safety.

The Withdrawal

Accordingly, the notice of proposed rulemaking, Docket No. FAA-2016-9380; Directorate Identifier 2016-NE-21-AD, published in the Federal Register on January 5, 2017 (82 FR 1258), is withdrawn.

Issued in Burlington, Massachusetts, on March 8, 2017.
Carlos A. Pestana,
Acting Assistant Manager, Engine & Propeller Directorate, Aircraft Certification Service.

[FR Doc. 2017-05242 Filed 3-21-17; 8:45 am]

BILLING CODE 4910-13-P